Title 3—

The President

Proclamation 8291

National Farm Safety and Health Week, 2008

By the President of the United States of America

A Proclamation

Agriculture has always been a vital part of America's economy and culture, and our farmers and ranchers are among the best stewards of our land. During National Farm Safety and Health Week, we recognize those working in agriculture for their contributions to our Nation's prosperity, security, and health, and we also seek to raise awareness about the occupational hazards of this industry.

Farming and ranching are strenuous occupations, and workers can be exposed to many dangers, including those associated with extreme weather conditions, operating heavy machinery, and working with livestock. Teaching awareness about potential dangers, implementing preventative measures, and supervising children as they work and play can help mitigate risks and reduce the number of injuries and fatalities on farms and ranches.

Our Nation's farmers and ranchers exemplify the American values of hard work, deep commitment to faith, and love of family. During National Farm Safety and Health Week, we celebrate these extraordinary men and women who are building a prosperous future for our country.

NOW, THEREFORE, I, GEORGE W. BUSH, President of the United States of America, by virtue of the authority vested in me by the Constitution and the laws of the United States, do hereby proclaim September 21 through September 27, 2008, as National Farm Safety and Health Week. I call upon the agencies, organizations, and businesses that serve America's agricultural workers to continue to strengthen their commitment to promoting farm safety and health programs. I also urge all Americans to honor our agricultural heritage and to recognize our farmers and ranchers for their remarkable contributions to our Nation.

IN WITNESS WHEREOF, I have hereunto set my hand this eighteenth day of September, in the year of our Lord two thousand eight, and of the Independence of the United States of America the two hundred and thirty-third.

[FR Doc. E8-22510

Filed 9-22-08; 11:15 am]

Billing code 3195-01-P